DEPARTMENT OF AGRICULTURE

Forest Service

Notice of Issuance of Final Permanent Prairie Dog Hunting Order in the Wall Ranger District of the Buffalo Gap National Grassland

AGENCY: Forest Service, Agriculture (USDA).

ACTION: Notice.

SUMMARY: The Forest Service (Forest Service or Agency), United States Department of Agriculture, is issuing a final permanent order prohibiting prairie dog hunting in part of the Conata Basin area of the Wall Ranger District in the Buffalo Gap National Grassland covering approximately 80,694 acres in Jackson and Pennington Counties, South Dakota.

ADDRESSES: The final permanent prairie dog hunting order, map and justification for the final permanent order, and the response to comments on the proposed permanent order are posted on the Nebraska National Forests and Grasslands web page at https://www.fs.usda.gov/alerts/nebraska/alerts-notices.

FOR FURTHER INFORMATION CONTACT: Julie Johndreau, Resource Staff Officer, 308-432-0330, or julie.johndreau@usda.gov. Individuals who use telecommunication devices for the hearing impaired may call 711 to reach the Telecommunications Relay Service, 24 hours a day, every day of the year, including holidays.

SUPPLEMENTARY INFORMATION: Section 4103 of the John D. Dingell, Jr. Conservation, Management, and Recreation Act of 2019 (Pub. L. 116-9, Title IV (Sportsmen's Access and Related Matters)), hereinafter “the Dingell Act,” requires the Forest Service to provide advance notice and opportunity for public comment before temporarily or permanently closing any National Forest System lands to hunting, fishing, or recreational shooting.

The final permanent order prohibiting prairie dog hunting in part of the Conata Basin area of the Wall Ranger District in the Buffalo Gap National Grassland has completed the public notice and comment process required under the Dingell Act. The Forest Service is issuing the final permanent prairie dog hunting order. The final permanent prairie dog hunting order, map and justification for the final permanent order, and the response to comments on the proposed permanent order are posted on the Nebraska National Forests and Grasslands web page at https://www.fs.usda.gov/alerts/nebraska/alerts-notices.

Dated: March 29, 2024.
Jacqueline Emanuel,
Associate Deputy Chief, National Forest System.

[FR Doc. 2024-08299 Filed 4-18-24; 8:45 am]

BILLING CODE 3411-15-P